DEPARTMENT OF THE INTERIOR

Fish and Wildlife Service

[FWS-R4-R-2009-N284; 40136-1265-0000-S3]

Lake Wales Ridge National Wildlife Refuge, Highlands and Polk Counties, FL

AGENCY: Fish and Wildlife Service, Interior.

ACTION: Notice of availability: Draft comprehensive conservation plan and environmental assessment; request for comments.

SUMMARY: We, the U.S. Fish and Wildlife Service (Service), announce the availability of a draft comprehensive conservation plan and environmental assessment (Draft CCP/EA) for Lake Wales Ridge National Wildlife Refuge (NWR) for public review and comment. In this Draft CCP/EA, we describe the alternative we propose to use to manage this refuge for the 15 years following approval of the final CCP.

DATES: To ensure consideration, we must receive your written comments by June 1, 2010.

ADDRESSES: You may obtain a copy of the Draft CCP/EA by writing to: Mr. Bill Miller, Lake Wales Ridge NWR, Pelican Island National Wildlife Refuge Complex, 1339 20th Street, Vero Beach, FL 32960; telephone: 561/715-0023. You may also access and download the document from the Service's Web site at http://southeast.fws.gov/planning under “Draft Documents.”

FOR FURTHER INFORMATION CONTACT: Mr. Bill Miller, Lake Wales Ridge NWR, Pelican Island National Wildlife Refuge Complex; telephone: 561/715-0023.

SUPPLEMENTARY INFORMATION:

Introduction

With this notice, we continue the CCP process for Lake Wales Ridge NWR. We started the process through a notice in the Federal Register on June 20, 2008 (73 FR 35149). For more about the refuge and our CCP process, please see that notice.

Lake Wales Ridge NWR is a unit of the Merritt Island National Wildlife Refuge Complex (NWR Complex) and is administered by and co-managed with Pelican Island and Archie Carr National Wildlife Refuges, colloquially termed the Pelican Island National Wildlife Refuge Complex (NWR Complex).

Background

The CCP Process

The National Wildlife Refuge System Administration Act of 1966 (16 U.S.C. 668dd-668ee), as amended by the National Wildlife Refuge System Improvement Act of 1997, requires us to develop a CCP for each national wildlife refuge. The purpose for developing a CCP is to provide refuge managers with a 15-year strategy for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

CCP Alternatives, Including Our Proposed Alternative

We developed three alternatives for managing the refuge and chose “Alternative B” as the proposed alternative. A full description of each alternative is in the Draft CCP/EA. We summarize each alternative below.

Alternative A—Current Management (No Action)

Alternative A would continue present management activities and programs. Management emphasis would continue to focus on maintaining existing habitats for rare, threatened, and endangered species through partnerships and management agreements. Primary management activities would continue to include providing infrequent and limited habitat management through: (1) Application of prescribed fire (Merritt Island NWR Complex provides fire program staff); (2) rare, threatened, and endangered species monitoring, utilizing partnerships; (3) litter and debris control; and (4) exotic, invasive, and nuisance species' control. Alternative A represents the anticipated conditions of the refuge for the next 15 years, assuming current funding, staffing, policies, programs, and activities continue.

This alternative would reflect actions that include managing habitats for rare, threatened, and endangered species. Both Federal- and State-listed species are found on the refuge. Habitat management actions are intended to benefit rare, threatened, and endangered species, but there is limited active management of other species and habitats due to the current level of resources. As a result, the refuge would continue to rely almost entirely on the actions and assistance of partners and volunteers who conduct a wide array of resource management activities, including monitoring of key refuge resources.

Management coordination would occur primarily between the refuge and the Lake Wales Ridge Ecosystem Working Group (LWREWG)—a consortium of Federal, State, local, and non-governmental land management organizations. The LWREWG shares natural area management information in an effort to increase the understanding and awareness of the Lake Wales Ridge ecosystem.

Land acquisition would continue based on the availability of willing sellers within the refuge's approved acquisition boundary, and where opportunities arise, through the LWREWG, or other initiatives on a case-by-case basis. Since the refuge is neither staffed nor funded, management agreements with partner agencies/organizations would be a primary focus.

The refuge would remain closed, and access for management purposes would be conducted solely through the refuge's special use permit process. On a case-by-case basis, extremely limited access for environmental education and interpretation opportunities might occur. The refuge would actively support key Lake Wales Ridge ecosystem partner-managed lands that are open to public use by identifying and updating links to partner Web sites on the refuge's official Web site.

The refuge would remain unstaffed and administered through the Pelican Island NWR Complex. Volunteer activities would continue to be supported through the Merritt Island Wildlife Association and the Pelican Island NWR Complex staff. Partnerships through the LWREWG and the Service's North and South Florida Ecological Services field offices would continue. The refuge would continue to opportunistically seek funding for habitat management, monitoring, and other program areas through alternative sources.

Alternative B—Rare, Threatened, and Endangered Species (Proposed Action)

This alternative expands the actions under Alternative A with a greater amount of habitat management focusing primarily on restoring and enhancing habitats to benefit the needs of rare, threatened, and endangered species. A total of 17 plants and 6 animals are federally listed species on the 1,842-acre refuge; 1 federal candidate species is known to occur on the refuge. Some of these species are protected nowhere else but on refuge lands. In addition, this endemic-rich refuge is home to at least 33 State-listed species, including 5 plant and 6 animal species that are not listed federally.

One key to this alternative is a focused effort to expand management activities through the implementation of a frequent, routine prescribed fire program to restore pyrogenic habitats to pre-fire exclusion conditions. This focused approach would provide for the restoration of a mosaic of suitable habitats, including xeric scrub lands, sandhills, open sand patches, and ephemeral wetlands necessary to maintain and expand populations of the refuge's rare, threatened, and endangered species. This restorative process may exceed the 15-year life of the CCP for some habitats. Once pre-fire exclusion conditions are attained, fire return intervals would be adapted based on rare, threatened, and endangered species and habitat responses provided through fire effects monitoring. As habitats are restored, the refuge would investigate potential expansion of rare, threatened, or endangered species introduction/reintroduction projects, coordinating and collaborating with partners through the LWREWG to identify best management opportunities.

This alternative would expand the monitoring efforts under Alternative A to provide additional active efforts to monitor rare, threatened, and endangered species. Monitoring efforts would be increased by the assistance of additional staff and trained volunteers, and through academic research. Greater effort would be made to recruit academic researchers to study and monitor rare, threatened, and endangered species. Under this alternative, we would increase efforts to control invasive and nuisance species; increase coordination with researchers and partners to investigate rare, threatened, and endangered species' response to changing patterns of suitable habitats; and assume a leadership role in identifying the impacts of climate change on rare, threatened, and endangered species.

This alternative would continue pursuing completion of the acquisition boundary, based on the availability of willing sellers, and prioritizing acquisition efforts on unprotected, undeveloped inholdings where threats of habitat loss and constraints to habitat management are greatest. We would evaluate a variety of land protection and conservation measures, including land swaps, to protect high-quality properties.

Expanding public awareness and support for the refuge and partner-managed lands of the Lake Wales Ridge ecosystem would be an important component of this alternative. Even though the refuge would remain closed to visitor use, we would implement a range of visitor service opportunities (e.g., environmental education and interpretation, and wildlife observation and photography), which would be controlled through an approval process. We would implement guided tours provided by Service staff or Service partners on a case-by-case basis and permitted through our special use permit process. In addition, we would develop and conduct an annual refuge day where guided tours, information, and refuge awareness through community outreach would be provided. Updated messages on both the refuge's Web site and brochure would be provided, focusing on the needs of rare, threatened, and endangered species. Further, we would work with partners to incorporate these messages in information distributed by them.

We would increase involvement with governmental and non-governmental partners through the LWREWG and would be positioned to increase Service presence with other partner organizations when opportunities arise. Coordination with both the North and South Florida Ecological Services field offices for funding and recovery direction would be expanded to optimize listed species management. Opportunities to build additional support through the Merritt Island Wildlife Association, Pelican Island Preservation Society, and Friends of the Carr Refuge would increase.

The refuge would gain staff to fulfill the goals, objectives, and strategies identified in the CCP, and staff would be situated to manage all day-to-day operations. The Lake Wales Ridge NWR is presently administered remotely and has no dedicated staff or budget. The refuge is approximately 130 miles from fire management support (Merritt Island NWR Complex) and approximately 100 miles from its Pelican Island NWR Complex management team. This situation considerably challenges all day-to-day operations and management necessary to provide for the needs of rare, threatened, and endangered species and the habitats they occupy.

This alternative would propose a 5-member staff, including a wildlife refuge specialist (assistant refuge manager), a private lands biologist, a botanist/biologist, a biological science technician, and a fire/forestry technician to manage refuge programs and provide a Service presence currently lacking in the Lake Wales Ridge system of naturally managed lands. The proposed staff would be in close proximity to refuge lands in order to manage day-to-day operations. To support operations and maintenance, we would enter into memoranda of understanding or other agreements with partners and/or secure independent spaces for equipment storage, operational functions, and administrative needs. This alternative would bolster management by investigating opportunities to enter into management agreements and other options with partner land management agencies and organizations, enabling partner management of Service properties in accordance with the CCP, subsequent step-down plans, and Service policies. We would continue to share facilities, equipment, utilities, and staff with Pelican Island and Archie Carr National Wildlife Refuges. The Merritt Island NWR Complex would continue to provide fire program staff.

Alternative C—Wildlife and Habitat Diversity

This alternative would serve the needs of key rare, threatened, and endangered species on the refuge, but within the larger context of wildlife and habitat diversity. Under this alternative, focused efforts utilizing prescribed fire to restore habitats to pre-fire exclusion conditions would be proposed, targeting the needs of a wide array of native wildlife and habitats to benefit the larger Lake Wales Ridge and central Florida landscape. We would continue to support recovery efforts of key listed species and expand efforts to provide opportunities targeting the needs of neotropical migratory birds, resident birds, wading and water birds, shorebirds, raptors, cavity-dependent species, and other resident species. Habitats where pines dominate the overstory would be managed to provide more pine stems per acre to promote habitat for cavity-dependent birds. Understory, shrub, and canopy vegetation would be managed to provide for a diversity of wildlife, and snag development would be encouraged to provide cavities and perch sites and to promote insect development. Where appropriate, burn frequencies would be reduced to provide for the production of saw palmetto for use as forage by wildlife, including the Florida black bear. We would investigate management opportunities with the Atlantic Coast Joint Venture and would support management of migratory birds. Through partnerships, we would conduct wading and water bird surveys to better understand our management role at the landscape level. Management to protect important habitat and wildlife corridors would increase under this alternative and invasive and nuisance species control efforts would expand.

This alternative would expand the monitoring efforts under Alternative A. Monitoring of neotropical migratory and resident birds in addition to other resident species would occur. Monitoring efforts would be increased by the assistance of additional staff and trained volunteers, and through academic research. We would take a leadership role in identifying the impacts of climate change on refuge resources, coordinating with researchers and partners to investigate species response to changing patterns of suitable habitats.

Under this alternative, the refuge would remain closed to visitor use except for limited and guided environmental education and interpretation and wildlife observation and photography opportunities by Service staff or volunteers and partners. Education, interpretation, and outreach messages would focus on the importance of the refuge in the landscape, and would include listed species as key topics. Further, we would work with the partners to incorporate applicable messages into their visitor activities and signage. We would develop and conduct an annual refuge day to promote refuge awareness. This alternative would seek to expand partnerships and would work with the partners, including the LWREWG environmental education subcommittee, to expand environmental education and interpretation opportunities on refuge lands.

As under Alternative B, we would gain staff to be located locally to manage all day-to-day operations of the refuge. This alternative would propose a 4-member staff, including a wildlife refuge specialist (assistant refuge manager), a private lands biologist, a botanist/biologist, and a fire/forestry technician. To support operations and maintenance, we would enter into memoranda of understanding or other agreements with the partners and/or secure independent spaces for equipment storage, operational functions, and refuge administrative needs. This alternative also would bolster management by investigating opportunities to enter into management agreements and other options with partner land management agencies and organizations, enabling partner management of Service properties in accordance with the CCP, subsequent step-down plans, and Service policies. We would continue to share facilities, equipment, utilities, and staff with Pelican Island and Archie Carr National Wildlife Refuges. The Merritt Island NWR Complex would continue to provide fire program staff.

Next Step

After the comment period ends, we will analyze the comments and address them.

Public Availability of Comments

Before including your address, phone number, e-mail address, or other personal identifying information in your comment, you should be aware that your entire comment, including your personal identifying information, may be made publicly available at any time. While you can ask us in your comment to withhold your personal identifying information from public review, we cannot guarantee that we will be able to do so.

Authority

This notice is published under the authority of the National Wildlife Refuge System Improvement Act of 1997, Public Law 105-57.

Dated: February 18, 2010.
Jon Andrew,
Acting Regional Director.

[FR Doc. 2010-10117 Filed 4-29-10; 8:45 am]

BILLING CODE 4310-55-P